DEPARTMENT OF AGRICULTURE

Submission for OMB Review; Comment Request

January 19, 2021.

The Department of Agriculture will submit the following information collection requirement(s) to OMB for review and clearance under the Paperwork Reduction Act of 1995, Public Law 104-13 on or after the date of publication of this notice. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology. Comments regarding these information collections are best assured of having their full effect if received by February 24, 2021. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Laboratory Approval Programs.

OMB Control Number: 0581-0320.

Summary of Collection: In accordance with the Paperwork Reduction Act of 1995, this notice announces the Agricultural Marketing Service's (AMS) intention to receive approval from the Office of Management and Budget (OMB) to collect information for the Micro-Grants for Food Security Program (MGFSP) under its Grants Division. Due to the passing of the Agriculture Improvement Act of 2018 (Pub. L. 115-343) (Farm Bill), AMS Grants Division is implementing this new grant program under section 4206, which directs the Secretary of Agriculture to “distribute funds to the agricultural department or agency of each eligible state for the competitive distribution of subgrants to eligible entities for fiscal year 2019 and each fiscal year thereafter.”

Need and Use of the Information: The AMS Grants Division requests to collect information from agricultural agencies or departments in eligible states, which include Alaska, American Samoa, the Commonwealth of the Northern Mariana Islands, the Commonwealth of Puerto Rico, the Federated States of Micronesia, Guam, Hawaii, the Republic of the Marshall Islands, the Republic of Palau, and the United States Virgin Islands for this new grant program.

MGFSP is intended to increase the quantity and quality of locally grown food in food insecure communities, including through small-scale gardening, herding, and livestock operations, in eligible states. The Farm Bill authorized to be appropriated to the Secretary $10 million for fiscal year 2019 and each fiscal year thereafter. In fiscal year 2020, $5 million was appropriated.

Because MGFSP is voluntary, respondents request or apply for this specific non-competitive grant program, and in doing so, they provide information. AMS is the primary user of the information. The information collected is needed to certify that grant participants are complying with applicable program regulations, and the data collected is the minimum information necessary to effectively carry out the requirements of the program. The information collection requirements in this request are essential to carry out the intent of the 7 U.S.C. 7518, to provide the respondents the type of service they request, and to administer this program.

Description of Respondents: Grant applicants, grant recipients.

Number of Respondents: 10.

Frequency of Responses: Reporting: On occasion.

Total Burden Hours: 318.

Levi S. Harrell,
Departmental Information Collection Clearance Officer.

[FR Doc. 2021-01468 Filed 1-22-21; 8:45 am]

BILLING CODE 3410-02-P